DEPARTMENT OF EDUCATION

Applications for New Awards; Technical Assistance and Dissemination To Improve Services and Results for Children With Disabilities—State Technical Assistance Projects To Improve Services and Results for DeafBlind Children and National Technical Assistance and Dissemination Center for DeafBlind Children

AGENCY: Office of Special Education and Rehabilitative Services, Department of Education.

ACTION: Notice.

SUMMARY: The Department of Education (Department) is issuing a notice inviting applications for new awards for fiscal year (FY) 2023 for Technical Assistance and Dissemination to Improve Services and Results for Children with Disabilities—State Technical Assistance Projects to Improve Services and Results for DeafBlind Children and National Technical Assistance and Dissemination Center for DeafBlind Children, Assistance Listing Number (ALN) 84.326T. This notice relates to the approved information collection under OMB control number 1820-0028.

DATES:

Applications Available: December 19, 2022.

Deadline for Transmittal of Applications: February 17, 2023.

Deadline for Intergovernmental Review: April 18, 2023.

Pre-Application Webinar Information: No later than December 27, 2022, OSERS will post pre-recorded informational webinars designed to provide technical assistance (TA) to interested applicants. The webinars may be found at www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at https://www.federalregister.gov/documents/2022/12/07/2022-26554/common-instructions-for-applicants-to-department-of-education-discretionary-grant-programs. Please note that these Common Instructions supersede the version published on December 27, 2021.

FOR FURTHER INFORMATION CONTACT: Susan Weigert, U.S. Department of Education, 400 Maryland Avenue SW, Room 5076, Potomac Center Plaza, Washington, DC 20202-5076. Telephone: (202) 245-6522. Email: susan.weigert@ed.gov.

If you are deaf, hard of hearing, or have a speech disability and wish to access telecommunications relay services, please dial 7-1-1.

SUPPLEMENTARY INFORMATION:

Full Text of Announcement

I. Funding Opportunity Description

Purpose of Program: Two Department programs fund this competition: the Technical Assistance and Dissemination to Improve Services and Results for Children with Disabilities (TA&D) program and the Personnel Development to Improve Services and Results for Children with Disabilities (PD) program.

The purpose of the TA&D program is to promote academic achievement and improve results for children with disabilities by providing TA, supporting model demonstration projects, disseminating useful information, and implementing activities that are supported by scientifically based research. The purposes of the PD program are to (1) help address State-identified needs for personnel preparation in special education, early intervention, related services, and general education to work with children, including infants, toddlers, and youth with disabilities; and (2) ensure that those personnel have the necessary skills and knowledge, derived from practices that have been determined through scientifically based research, to be successful in serving those children.

Priority: This competition includes one absolute priority. In accordance with 34 CFR 75.105(b)(2)(v), this priority is from allowable activities specified in the statute (see sections 662(c)(2), 663(c)(8)(A) and (C), and 681(d) of the Individuals with Disabilities Education Act (IDEA) (20 U.S.C. 1462, 1463, and 1481)).

Absolute Priority: For FY 2023 and any subsequent year in which we make awards from the list of unfunded applications from this competition, this priority is an absolute priority. Under 34 CFR 75.105(c)(3), we consider only applications that meet this priority.

This priority is:

State Technical Assistance Projects to Improve Services and Results for DeafBlind Children and a National Technical Assistance and Dissemination Center for DeafBlind Children.

Background:

DeafBlind children ¹ have complex needs and are among the most diverse groups of learners served under IDEA. Approximately 85 percent of DeafBlind children also have additional physical, learning, or cognitive disabilities (National Center on Deaf-Blindness, 2022). As a result, DeafBlind children face a unique set of challenges not commonly faced by their peers with, and without, disabilities. Providing equitable educational opportunities for these students involves a range of expertise and resources to prepare and support diverse teams of families and personnel and to ensure accessible materials and environments. Teachers and early interventionists often require assistance developing strategies to instruct DeafBlind children in concept-development, communication, and early literacy. In addition, because 62 percent of DeafBlind children have additional orthopedic impairments limiting use of their hands for communication or for purposes of engaging in learning activities, families, caregivers, teachers, and service providers often require consultation on alternative and augmentative communication options to ensure such students can engage in instructional activities (Karvonen et al., 2021). Transition planning for DeafBlind children should occur as an ongoing, person-centered process with family involvement and consideration of a student's abilities, strengths, and preferences. Secondary transition planning for DeafBlind children should target multiple domains, including vocational education and planning, postsecondary educational planning, independent or supported living, and community participation (Nelson & Bruce, 2022; Zatta & McGinnty, 2016). Consequently, State educational agencies (SEAs), lead agencies(LAs) under Part C of IDEA, local educational agencies (LEAs), early intervention services (EIS) providers, teachers, service providers, State TA providers, and families need significant support to address the intensive and diverse educational, related services, transitional, and early intervention needs of DeafBlind children to ensure that these children are prepared for lifelong learning and successful transition to postsecondary settings.

¹ For purposes of this notice, the term 'DeafBlind children' refers to infants, toddlers, children, youth, and young adults (ages birth through 21) who are deaf-blind.

The purpose of this priority is to establish and operate State Technical Assistance Projects to Improve Services and Results for DeafBlind Children and a National Technical Assistance and Dissemination Center for DeafBlind Children that will provide TA and support to the State projects.

The State Technical Assistance Projects to Improve Services and Results for DeafBlind Children (State DeafBlind Projects) will help SEAs, Part C LAs, LEAs, including charter school LEAs, EIS providers, teachers, service providers, and families to address the educational, related services, transitional, and early intervention needs of DeafBlind children. For more than 30 years, the Office of Special Education Programs (OSEP) has supported State DeafBlind Projects to improve support to local schools and agencies within States that are serving DeafBlind children and their families. The State DeafBlind Projects are designed to increase access to, and progress in, the grade-level general education curriculum, including grade-level or alternate academic achievement standards, for DeafBlind children and improve their communication skills with a goal of supporting lifelong learning, including postsecondary education and employment readiness.

The National Technical Assistance and Dissemination Center for DeafBlind Children (National Center) will provide TA and support to the State DeafBlind Projects in addressing these needs. This support includes providing specialized TA, training, centralized product development and dissemination, and informational services to agencies and organizations, professionals, families, and others involved in providing services to DeafBlind Children.

For the purposes of this competition, the Department has separated the absolute priority into two focus areas: State DeafBlind Projects (Focus Area A) and a National Center (Focus Area B). Applicants must identify whether they are applying under Focus Area A, Focus Area B, or both.

Note: Each focus area will be reviewed and scored separately if an applicant is applying under both focus areas. As the program and application requirements for the two focus areas are different, applicants must ensure that they have met all applicable requirements for each focus area.

State Technical Assistance Projects to Improve Services and Results for DeafBlind Children (Focus Area A).

This priority will fund discretionary grants to establish and operate State Technical Assistance Projects to Improve Services and Results for DeafBlind. The State DeafBlind Projects are expected to work closely with SEAs, LAs, LEAs, EIS providers, teachers, service providers, and families to address the intensive educational, related services, transitional, and early intervention needs of DeafBlind children, to ensure that these children have meaningful access to the general education curriculum and can successfully transition to postsecondary education or employment. In partnership with the National Center (Focus Area B), the provision of targeted and intensive TA by State DeafBlind Projects will ensure that family members and caregivers, EIS providers, special and general education teachers, and service providers have access to specialized training and tools needed to support the educational, communication, and socialization needs of DeafBlind children.

To support the communication needs of DeafBlind children, specialized personnel called “interveners” ² are often employed to help these children gather information, develop concepts, establish relationships, and develop and expand upon their communication skills (National Center on Deaf-Blindness, 2022). State DeafBlind Projects are encouraged to support the training and certification of such personnel in both early intervention and classroom environments by collaborating with and implementing training resources developed by the National Center.

² The term “intervener” is used in many States to refer to a specially trained communication partner who supports a DeafBlind child by providing access to information and communication and facilitating the development of social and emotional well-being for DeafBlind children. In educational environments, intervener services are provided by an individual, often a paraeducator, who has received specialized training in deaf-blindness and the process of intervention. An intervener provides consistent one-to-one support to a DeafBlind child (ages 3 through 21 or as mandated by State regulations) throughout the instructional day (National Center on Deaf-Blindness, 2022).

Under Focus Area A, the Department will fund discretionary grants to establish and operate State DeafBlind Technical Assistance Projects (State DeafBlind Projects) to improve services and results for DeafBlind children. Grants under Focus Area A are available to support projects in all States, including the District of Columbia, Puerto Rico, the outlying areas, and the freely associated States. A grant may be awarded to an entity to serve a single State or a multi-State consortium. Funds awarded under this priority may not be used to provide direct early intervention services under Part C of IDEA or direct special education and related services under Part B of IDEA.

State DeafBlind Projects funded under this priority must achieve, at a minimum, the following expected outcomes:

(a) Provide TA and training on improving outcomes to personnel who serve DeafBlind children;

(b) Increase early identification and referral of DeafBlind children for appropriate services and supports;

(c) Facilitate emerging and developing literacy and numeracy for DeafBlind children by promoting access to the grade level general education curriculum, including grade-level or alternate academic achievement standards, through the use of high-quality practices;

(d) Expand support to DeafBlind children and their families during the transition to post-secondary education or employment.

(e) Increase support to families of DeafBlind children to facilitate their involvement in early intervention, education, and transition opportunities;

(f) In collaboration with the National Center, collect information to provide a State-by-State needs assessment; and

(g) For States that use, or plan to use, certified interveners, projects in those States will collaborate with the National Center to increase the number of qualified interveners within the State who have demonstrated skills to support and improve the educational, social, and communication outcomes of DeafBlind children.

In addition to these programmatic requirements, to be considered for funding under Focus Area A of this priority, applicants must meet the application and administrative requirements in this priority, which are:

(a) Demonstrate, in the narrative section of the application under “Significance of the project,” how the proposed project will—

(1) Provide EIS providers, special education teachers, general education teachers, related services personnel, and SEA, LEA, LA, and EIS administrators with the training and information needed to develop and implement individualized supports to ensure that DeafBlind children have equitable access to, and make progress in, the grade level general education curriculum, including grade-level or alternate academic achievement standards, and have equitable access to high-quality educational opportunities that lead to successful transitions to postsecondary education or employment; and

(2) In conjunction with OSEP-funded State Parent Training and Information Centers (PTIs), ensure that a diverse group of family members and caregivers of DeafBlind children have the training and information needed to establish, maintain, and improve productive partnerships with teachers, school administrators, and service providers.

To address the requirements of paragraphs (1) and (2) of this section, the applicant must—

(i) Present applicable State, regional, or local data (and, in the case of an application for a consortium, data for each State that the consortium will serve) demonstrating training and information needs of EIS providers, special and general education teachers, related services personnel, and family members and caregivers identified in paragraphs (1) and (2) of this section, taking into account the needs of a diverse population and geographical distribution of DeafBlind children;

(ii) Demonstrate knowledge of current educational issues and policy initiatives in educating DeafBlind children, including any State-specific policy initiatives, and explain how the applicant will support their implementation; and

(iii) Describe the applicant's approach to improving educational, social, and communication outcomes for DeafBlind children, and indicate the likely magnitude or importance of these outcomes.

(b) Demonstrate, in the narrative section of the application under “Quality of the project services,” how the proposed project will—

(1) Ensure equal access and treatment for members of under-represented populations;

(2) Identify the needs of the intended recipients for TA and information;

(3) Ensure that services meet the needs of the intended recipients of the grant and that any proposed products are first approved by the OSEP project officer and then developed in coordination with the National Center;

(4) Achieve its goals, objectives, and intended outcomes. To meet this requirement, the applicant must provide measurable intended project outcomes;

(5) Be based on current research and make use of high-quality practices. To meet this requirement, the applicant must describe—

(i) The current research and high-quality practices that ensure access to the grade-level general education curriculum, including grade-level or alternate academic achievement standards, and high-quality educational opportunities that lead to successful transitions to postsecondary education or employment;

(ii) How the proposed project will provide culturally and linguistically responsive, high-quality training and TA to the family members and caregivers of DeafBlind children and TA and professional development to practitioners identified in paragraph (a) of the application and administrative requirements in this section; and

(iii) The process the proposed project will use to incorporate current research and high-quality practices in the development and delivery of its products and services.

(6) Provide services that are of sufficient quality, intensity, and duration to achieve the intended outcomes of the proposed project. To address this requirement, the applicant must describe—

(i) Its proposed approach to universal, general TA,³ including the intended recipients of products and services;

³ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(ii) Its proposed approach to targeted, specialized TA,⁴ including the intended recipients of products and services; and

⁴ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(iii) Its proposed approach to intensive, sustained TA,⁵ including the intended recipients of products and services. To address this requirement, the applicant must describe—

⁵ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) Its proposed approach to collaboration with SEAs, LEAs, LAs, EIS providers, PTIs, and other relevant entities, as appropriate, to support project initiatives, to leverage their available resources, and to develop supports for families, and to provide TA and training to teachers, EIS providers, and other service providers;

(B) Its proposed plan for assisting LEAs and EIS providers to address the needs of the diverse population of DeafBlind children based on best practices and current research on effective training and professional development; and

(C) Its proposed plan for working with individuals and entities at each level of the education system (e.g., SEAs, LEAs, LAs, EIS providers, schools, and families) to promote communication among the different groups and ensure that systems are in place to support the equitable use of high-quality practices for educating DeafBlind children.

(7) Implement services in collaboration with the National Center to meet the TA objectives within the State(s) served. To address this requirement, the applicant must describe—

(i) How the proposed project will use technology to achieve the intended project outcomes;

(ii) With whom the proposed project will collaborate and the intended outcomes of this collaboration;

(iii) How the proposed project will use non-project resources to achieve the intended project outcomes; and

(iv) How the applicant will facilitate States' ability to use and benefit from the National Center's initiatives, products, and TA, including those initiatives that cross State boundaries.

(c) Demonstrate, in the narrative section of the application under “Quality of the evaluation plan,” how

the proposed project will collect and analyze data on specific and measurable goals, objectives, and outcomes of the project. To address this requirement, the applicant must describe—

(1) The proposed evaluation methodologies, including instruments, data collection methods, and possible analyses;

(2) The proposed standards or targets for determining interim and final outcomes;

(3) The proposed methods for collecting data on implementation supports and fidelity of implementation;

(4) How the proposed project will apply evaluation results to examine and improve the project's implementation strategies and the progress toward achieving the project's intended outcomes; and

(5) How the methods of evaluation will produce quantitative and qualitative data that demonstrate whether the project has achieved its intended outcomes.

(d) Demonstrate, in the narrative section of the application under “Adequacy of project resources,” how the proposed project will—

(1) Encourage applications for employment from persons who are members of groups that have traditionally been underrepresented based on race, color, national origin, gender, age, or disability, as appropriate;

(2) Ensure that the proposed key project personnel, consultants, and subcontractors have the qualifications and experience to carry out the proposed activities and achieve the project's intended outcomes;

(3) Ensure that the applicant and any key partners have adequate resources to carry out the proposed activities; and

(4) Ensure that the proposed costs are reasonable in relation to the anticipated results and benefits.

(e) Demonstrate, in the narrative section of the application under “Quality of the management plan,” how the proposed management plan will ensure that the project's intended outcomes will be achieved on time and within budget. To address this requirement, the applicant must describe—

(1) Clearly defined responsibilities for key project personnel, consultants, and subcontractors, as appropriate;

(2) Timelines and milestones for accomplishing the project tasks;

(3) How key project personnel and any consultants and subcontractors will be allocated and how these allocations are appropriate and adequate to achieve the project's intended outcomes;

(4) How the proposed management plan will ensure that the products and services provided are of high quality, relevant, and useful to recipients;

(5) How the proposed project will benefit from a diversity of perspectives, including families, educators, TA providers, researchers, and policy makers, among others, in its development and operation;

(6) If applicable, how the States within a consortium will receive appropriate services; and

(7) If applicable, how the proposed project will ensure that the distribution of resources is equitable within a consortium.

(f) In the narrative under “Required project assurances” or appendices as directed, meet the following application requirements—

(1) Include, in appendix A, charts and timelines, as applicable, to illustrate the management plan described in the narrative;

(2) Include, in the budget, attendance at the following:

(i) A one-day planning meeting preceding each OSEP-hosted project directors' conference held in Washington, DC, or virtually, in coordination with the National Center;

(ii) A three- and one-half-day project directors' conference in Washington, DC, or virtually, during each year of the project period; and

(3) If the project maintains a website, ensure that it will be of high quality, with an easy-to-navigate design, that meets government or industry- recognized standards for accessibility.

Note: States are invited to form consortia to apply for funding under Focus Area A of this priority in accordance with the Education Department General Administrative Regulations (EDGAR) in 34 CFR 75.127 to 75.129. A consortium may be comprised of any group of States.

National Technical Assistance and Dissemination Center for DeafBlind Children (Focus Area B).

The purpose of this priority is to fund a cooperative agreement to establish and operate a National Technical Assistance and Dissemination Center for DeafBlind Children. The National Center will work with the State DeafBlind Projects to ensure that family members and caregivers, EIS providers, special and general education teachers, interveners, and related services personnel have access to the specialized training and tools needed to support the educational, communication, and socialization needs of DeafBlind children.

The Center must achieve, at a minimum, the following expected outcomes:

(a) Expand communication and coordination across the State DeafBlind Project TA network to improve outcomes for DeafBlind children;

(b) Expand the development and use of training modules to support personnel development of teachers, related service providers, and interveners;

(c) Expand the body of knowledge and use of high-quality practices to facilitate emerging and developing literacy and numeracy for DeafBlind children;

(d) Facilitate increased family involvement in the early intervention, education, and transition opportunities for the diverse population of DeafBlind children by disseminating culturally and linguistically responsive information, and providing equitable opportunities for networking and engagement with DeafBlind family organizations;

(e) Collaborate with the State DeafBlind Projects to facilitate the early identification of children with dual-sensory impairment in the State, to ensure that their families, teachers, and other service providers can receive appropriate services provided by the State DeafBlind Projects; and

(f) Collaborate with the State DeafBlind Projects to provide a State-by-State needs assessment that includes disability and demographic information and trends, to ensure that the State DeafBlind Projects and those they serve receive high-quality, appropriate resources and services.

In addition to these programmatic requirements, to be considered for funding under this priority, applicants must meet the application and administrative requirements in this priority, which are:

(a) Demonstrate, in the narrative section of the application under “Significance,” how the proposed project will—

(1) Address the current and emerging needs of State DeafBlind Projects, SEAs, LEAs, LAs, EIS providers, and organizations serving DeafBlind children to ensure they have the training and information needed to implement and sustain high-quality, equitable, effective, and efficient systems that have the implementation supports in place to ensure DeafBlind children have access to and progress in the grade-level general education curriculum, including grade-level or alternate academic achievement standards, and have access to high-quality educational and early intervention and developmental opportunities that lead to successful transitions to postsecondary education or employment. To meet this requirement the applicant must—

(i) Present applicable data demonstrating current State capacity to deliver high-quality IDEA services for DeafBlind children, and ensure they have access to and progress in the grade-level general education curriculum, including grade-level or alternate academic achievement standards, and have access to high-quality educational opportunities that lead to successful transitions to postsecondary education or employment; and

(ii) Demonstrate knowledge of current issues and ongoing challenges in ensuring DeafBlind children have equitable access to and progress in the grade-level general education curriculum, including grade-level or alternate academic achievement standards, and that they have access to high-quality early-intervention and educational opportunities that lead to successful transitions to postsecondary education or employment; and

(2) Improve educational outcomes for DeafBlind children, including those from under-represented populations, and indicate the likely magnitude or importance of these outcomes.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the grant;

(2) Achieve its goals, objectives, and intended outcomes. To meet this requirement, the applicant must provide—

(i) Measurable intended project outcomes; and

(ii) In appendix A, the logic model (as defined in 34 CFR 77.1) by which the proposed project will achieve its intended outcomes that depicts, at a minimum, the goals, activities, outputs, and intended outcomes of the proposed project.

(3) Use a conceptual framework (and provide a copy in appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of evidence-based ⁶ practices (EBPs). To meet this requirement, the applicant must describe—

⁶ For the purposes of this priority, “evidence-based” means, at a minimum, evidence that demonstrates a rationale (as defined in 34 CFR 77.1), where a key project component included in the project's logic model is informed by research or evaluation findings that suggest the project component is likely to improve relevant outcomes.

(i) The current research and high-quality practices on ensuring access to the grade-level general education curriculum, including grade-level or alternate academic achievement standards, and high-quality early intervention and educational opportunities that lead to successful transitions to postsecondary education or employment;

(ii) How the project will provide high-quality TA products designed to address the needs of the diverse population of family members and caregivers of DeafBlind children and TA and professional development products designed for diverse practitioners identified in paragraph (a) of the application and administrative requirements in this section;

(iii) The process the proposed project will use to incorporate current research and high-quality practices in the development and delivery of its products and services;

(iv) The current research about adult learning principles and implementation science that will inform the proposed TA; and

(v) How the proposed project will incorporate current research and practices in the development and delivery of its products and services.

(5) Develop products and provide services that are of high quality and sufficient intensity and duration to achieve the intended outcomes of the proposed project. To address this requirement, the applicant must describe—

(i) How it proposes to identify or develop and expand the knowledge base pertaining to the development of communicative competence in DeafBlind children;

(ii) How the proposed project will collaborate with higher-education institutions to incorporate information on best practices to develop products and services which promote high-quality instructional interventions designed to improve access to the general education curriculum by DeafBlind children;

(iii) How the proposed project will collaborate with the OSEP-funded National Center on Educational Outcomes to incorporate information on including DeafBlind children who have significant cognitive disabilities in State- and district-wide assessment systems;

(iv) Its proposed approach to universal, general TA,⁷ which must identify the intended recipients, including the type and number of recipients, that will receive the products and services, a description of the products and services that the Center proposes to make available, and the expected impact of those products and services under this approach;

⁷ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(v) Its proposed approach to targeted, specialized TA,⁸ which must identify—

⁸ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach; and

(B) Its proposed approach to measure the readiness of potential TA recipients (i.e., State Technical Assistance Project staff) to work with the project, assessing, at a minimum, their commitment to the initiative, alignment of the initiative to their needs, current infrastructure, available resources, and ability to build capacity at the local district and EIS program level; and

(vi) Its proposed approach to intensive, sustained TA,⁹ which must identify the intended recipients (i.e., State Technical Assistance Project staff), including the type and number of recipients from a variety of settings and geographic distribution, that will receive the products and services designed to impact educational, functional, and social outcomes of the diverse population of DeafBlind children.

⁹ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(7) Develop a dissemination plan that describes how the applicant will systematically distribute information, products, and services to varied intended audiences, using a variety of dissemination strategies, to promote awareness and use of the Center's products and services.

(c) In the narrative section of the application under “Quality of the project evaluation,” include an evaluation plan for the project as described in the following paragraphs. The evaluation plan must describe— measures of progress in implementation, including the criteria for determining the extent to which the project's products and services have met the goals for reaching its target population; measures of intended outcomes or results of the project's activities in order to evaluate those activities; and how well the goals or objectives of the proposed project, as described in its logic model, have been met. The applicant must provide an assurance that, in designing the evaluation plan, it will—

(1) Designate, with the approval of the OSEP project officer, a project liaison with sufficient dedicated time, experience in evaluation, and knowledge of the project to work in collaboration with the Center to Improve Program and Project Performance (CIPP),¹⁰ the project director, and the OSEP project officer on the following tasks:

¹⁰ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise the logic model submitted in the application to provide for a more comprehensive measurement of implementation and outcomes and to reflect any changes or clarifications to the model discussed at the kick-off meeting;

(ii) Refine the evaluation design and instrumentation proposed in the application consistent with the revised logic model and using the most rigorous design suitable (e.g., prepare evaluation questions about significant program processes and outcomes; develop quantitative or qualitative data collections that permit both the collection of progress data, including fidelity of implementation, as appropriate, and the assessment of project outcomes; and identify analytic strategies); and

(iii) Revise the evaluation plan submitted in the application such that it clearly—

(A) Specifies the evaluation questions, measures, and associated instruments or sources for data appropriate to answer these questions, suggests analytic strategies for those data, provides a timeline for conducting the evaluation, and includes staff assignments for completing the evaluation activities;

(B) Delineates the data expected to be available by the end of the second project year for use during the project's evaluation (3+2 review) for continued funding described under the heading Fourth and Fifth Years of the Project; and

(C) Can be used to assist the project director and the OSEP project officer, with the assistance of CIPP, as needed, to specify data collection processes to support performance measures developed in common by the State Deafblind Projects, and to be addressed in the project's annual performance report.

(2) Dedicate sufficient staff time and other resources during the first six months of the project to collaborate with CIPP staff, including regular meetings (e.g., weekly, biweekly, or monthly) with CIPP and the OSEP project officer, in order to accomplish the tasks described in paragraph (C)(1) of this section; and

(3) Dedicate sufficient funds in each budget year to cover the costs of carrying out the tasks described in paragraphs (C)(1) and (2) of this section and revising and implementing the evaluation plan. Please note in your budget narrative the funds dedicated for this activity.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in appendix A, personnel-loading charts and timelines, as applicable, to illustrate the management plan described in the narrative;

(2) Include, in the budget, attendance at the following:

(i) A one- and one-half day kick-off meeting in Washington, DC, or virtually, after receipt of the award, and an annual planning meeting in Washington, DC, or virtually, with the OSEP project officer and other relevant staff during each subsequent year of the project period.

Note: Within 30 days of receipt of the award, a post-award video or teleconference must be held between the OSEP project officer and the grantee's project director or other authorized representative;

(ii) A two- and one-half day project directors' conference in Washington, DC, or virtually, during each year of the project period;

(iii) An annual two-day trip, or virtually, to attend Department briefings, Department-sponsored conferences, and other meetings, as requested by OSEP; and

(iv) A one-day intensive 3+2 review meeting in Washington, DC, or virtually, during the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period; and

(4) Maintain a high-quality website, with an easy-to-navigate design, that meets government or industry- recognized standards for accessibility;

(5) Ensure that annual project progress toward meeting project goals is posted on the project website; and

(6) Include, in appendix A, an assurance to assist OSEP with the transfer of pertinent resources and products and to maintain the continuity of services to States during the transition to this new award period and at the end of this award period, as appropriate.

Fourth and Fifth Years of the Project:

In deciding whether to continue funding the project for the fourth and fifth years, the Secretary will consider the requirements of 34 CFR 75.253(a), including—

(a) The recommendations of a 3+2 review team consisting of experts who have experience and knowledge in providing services to DeafBlind children. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References:

Karvonen, M., Beitling, B., Erickson, K., Morgan, S., & Bull, R. (2021). Students with significant cognitive disabilities and dual sensory loss. University of Kansas, Accessible Teaching, Learning, and Assessment Systems; National Center on Deaf-Blindness. www.nationaldb.org/info-center/students-significant-cognitive-disabilities-dual-sensory-loss/.

National Center on Deaf-Blindness (2022). 2020 National Deaf-Blind Child Count Report. www.nationaldb.org/media/doc/2020_National_Deaf-Blind_Child_Count_Report_FINALEDITED_a.pdf.

Nelson, C., & Bruce, S. M. (2022). Future directions in the field of deaf-blindness. In C. Guardino, J. Cannon, & P. Paul (Eds.), Deaf and hard of hearing learners with disabilities: Foundations, strategies and resources (pp. 162-192). Routledge.

Zatta, M., & McGinnity, B. (2016). An overview of transition planning for students who are deafblind. American Annals of the Deaf, 161(4), 474-485.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1462, 1463 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except Federally recognized Indian Tribes.

Note: The regulations in 34 CFR part 86 apply to institutions of higher education (IHEs) only.

II. Award Information

Type of Award: Discretionary grants (Focus Area A) and cooperative agreement (Focus Area B).

Estimated Available Funds: The Administration requested $49,345,000 for the Technical Assistance and Dissemination to Improve Services and Results for Children with Disabilities program for FY 2023, of which we intend to use an estimated $11,100,000 for this competition; and $250,000,000 for the Personnel Development to Improve Services and Results for Children with Disabilities program, of which we intend to use an estimated $500,000 for this competition. The actual level of funding, if any, depends on final congressional action. However, we are inviting applications to allow enough time to complete the grant process if Congress appropriates funds for this program.

Contingent upon the availability of funds and the quality of applications, we may make additional awards in FY 2024 from the list of unfunded applications from this competition.

Estimated Range of Awards: Focus Area A: See chart. Focus Area B: $2,100,000.

Estimated Average Size of Awards: Focus Area A: $176,000. Focus Area B: $2,100,000.

Maximum Award: Focus Area A: The following chart lists the maximum amount of funds for individual States and for a single budget period of 12 months. We will not make an award exceeding funding levels listed in this notice for individual States, or the combined funding levels listed in this notice for each State member of a consortium, for any single budget period of 12 months. A State may be served by only one supported project. In determining the maximum funding levels for each State, the Secretary considered, among other things, the following factors: (1) The total number of children from birth through age 21 in the State. (2) The number of children in poverty in the State. (3) The previous funding levels. (4) The minimum funding amounts. (5) The travel costs associated with serving the geographic location of the State.

FY 2023 Funding Levels by State for Focus Area A
Alabama | $149,504
Alaska | 120,529
Arizona | 182,611
Arkansas | 99,325
California | 963,563
Colorado | 141,970
Connecticut | 87,872
Delaware | 58,500
District of Columbia | 58,500
Florida | 476,464
Georgia | 287,224
Hawaii | 68,500
Idaho | 79,127
Illinois | 309,454
Indiana | 188,348
Iowa | 88,704
Kansas | 105,874
Kentucky | 135,323
Louisiana | 137,517
Maine | 58,500
Maryland | 145,875
Massachusetts | 152,912
Michigan | 249,646
Minnesota | 148,342
Mississippi | 108,574
Missouri | 168,080
Montana | 109,225
Nebraska | 74,786
Nevada | 101,620
New Hampshire | 58,500
New Jersey | 223,499
New Mexico | 97,125
New York | 491,063
North Carolina | 279,910
North Dakota | 70,200
Ohio | 292,774
Oklahoma | 122,361
Oregon | 109,947
Pennsylvania | 315,812
Rhode Island | 58,500
South Carolina | 133,322
South Dakota | 89,429
Tennessee | 197,514
Texas | 839,939
Utah | 99,402
Vermont | 64,306
Virginia | 212,607
Washington | 177,082
West Virginia | 82,788
Wisconsin | 151,195
Wyoming | 70,200
Puerto Rico | 84,056
Pacific ** | 92,000
Virgin Islands | 30,000
Total | 9,500,000
** The areas to be served by this award are the outlying areas of American Samoa, Guam, and the Commonwealth of the Northern Mariana Islands, as well as the freely associated States of the Republic of the Marshall Islands, the Federated States of Micronesia, and the Republic of Palau. An applicant for this award must propose to serve all of these areas.

Focus Area B: We will not make an award exceeding $2,100,000 for any single budget period of 12 months.

Note: The Assistant Secretary for Special Education and Rehabilitative Services may change the maximum award through a notice published in the Federal Register.

Estimated Number of Awards: Focus Area A: 54. Focus Area B: 1.

Note: The Department is not bound by any estimates in this notice.

Project Period: Up to 60 months.

III. Eligibility Information

1. Eligible Applicants: SEAs; State LAs under Part C of IDEA; LEAs, including public charter schools that are considered LEAs under State law; IHEs; other public agencies; private nonprofit organizations; freely associated States and outlying areas; Indian Tribes or Tribal organizations; and for-profit organizations.

Note: Non-SEA applicants must include a letter of support from the SEA indicating that the SEA will work with the applicant if the applicant is awarded the grant.

With respect to Focus Area A of the priority, in order to provide SEAs with greater flexibility in how TA is delivered and ensure high-quality TA, and in accordance with 34 CFR 75.127, individual States have the following options: (1) Participating as a member of a multi-State consortium; or (2) applying directly for funds as a single State. Therefore, eligible applicants for funds awarded under Focus Area A of the priority may be an entity serving a multi-State consortium or a single State.

Note: For additional information regarding group applications, refer to 34 CFR 75.127, 75.128, and 75.129.

Eligible applicants under Focus Area A are invited to submit single-State applications or be a member of a consortium application to provide DeafBlind TA services to individual States. If a State is included in more than one application as a member of a consortium or submits an individual State application, and more than one application is determined to be fundable for the State, the State will be given the option to choose the award (individual State or consortium) under which it will receive funding. A State may not be funded under multiple awards. The maximum level of funding for a consortium will reflect the combined total that the eligible entities comprising the consortium would have received if they had applied separately. For States within a consortium, each State must receive services consistent with its identified funding level.

2. a. Cost Sharing or Matching: This competition does not require cost sharing or matching.

b. Indirect Cost Rate Information: A grantee under Focus Area A may recover the lesser of (a) its actual indirect costs as determined by the grantee's negotiated indirect cost rate agreement and (b) 10 percent of its modified total direct costs. If a grantee's allocable indirect costs exceed 10 percent of its modified total direct costs, the grantee may not recoup the excess by shifting the cost to other grants or contracts with the U.S. Government, unless specifically authorized by legislation. The grantee must use non-Federal revenue sources to pay for such unrecovered costs.¹¹

¹¹ The National Technical Assistance and Dissemination Center for DeafBlind Children (ALN 84.326T) (National Center) is not subject to this limitation on recovery of indirect costs.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages for the Technical Assistance Center and 50 pages for State projects, and (2) use the following standards:

• A “page” is 8.5″ × 11″, on one side only, with 1″; margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The adequacy of support, including facilities, equipment, supplies, and other resources, from the applicant organization or the lead applicant organization.

(iv) The extent to which the budget is adequate to support the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures, including long-term measures, that are designed to yield information on various aspects of the effectiveness and quality of the Technical Assistance and Dissemination to Improve Services and Results for Children with Disabilities program. These measures are:

• Program Performance Measure #1: The percentage of Technical Assistance and Dissemination products and services deemed to be of high quality by an independent review panel of experts qualified to review the substantive content of the products and services.

• Program Performance Measure #2: The percentage of Special Education Technical Assistance and Dissemination products and services deemed by an independent review panel of qualified experts to be of high relevance to educational and early intervention policy or practice.

• Program Performance Measure #3: The percentage of all Special Education Technical Assistance and Dissemination products and services deemed by an independent review panel of qualified experts to be useful in improving educational or early intervention policy or practice.

• Program Performance Measure #4: The cost efficiency of the Technical Assistance and Dissemination Program includes the percentage of milestones achieved in the current annual performance report period and the percentage of funds spent during the current fiscal year.

• Long-Term Program Performance Measure: The percentage of States receiving Special Education Technical Assistance and Dissemination services regarding scientifically or evidence-based practices for infants, toddlers, children, and youth with disabilities that successfully promote the implementation of those practices in school districts and service agencies.

Additional project measures developed by and common to all State DeafBlind projects funded under Focus Area A are designed to address expected project outcomes and must also be reported on annually.

Grantees will be required to report information on their project's performance in annual and final performance reports to the Department (34 CFR 75.590).

The Department will also closely monitor the extent to which the products and services provided by the Center meet needs identified by stakeholders and may require the Center to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2022-27457 Filed 12-16-22; 8:45 am]

BILLING CODE 4000-01-P